DEPARTMENT OF AGRICULTURE

Forest Service

Black-Tailed Prairie Dog Conservation and Management Nebraska National Forest, and Oglala National Grassland—Nebraska Buffalo Gap, and Fort Pierre National Grasslands—SD

AGENCY: USDA Forest Service.

ACTION: Notice of decision.

On August 3, 2005, Donald J. Bright (Responsible Official), Forest Supervisor of the Nebraska National Forest and Associated Units, signed the Record of Decision (ROD) to implement Alternative 3 of the Black-tailed Prairie Dog Conservation and Management Environmental Impact Statement (EIS).

In summary, Alternative 3 provides for maintaining sufficient prairie dog colonies to ensure population viability for prairie dogs and other species dependent upon the prairie dog ecosystem, including the endangered black-footed ferret. At the same time, it redeems the responsibility of the Forest Service to act as a good neighbor and reduce the effects of land management decisions on adjoining landowners.

This alternative prescribes an adaptive management concept using a full suite of tools, including expanded rodenticide use and vegetation management, through livestock grazing coordination, to manage and reduce selected prairie dog colonies along national grassland property boundaries. The purpose of this action is to reduce or eliminate unwanted movement to, and colonization of, private and tribal lands by black-tailed prairie dogs originating on the adjacent national grasslands listed above.

The Record of Decision are available at the Nebraska National Forest Web site at http://www.fs.fed.us/r2/nebraska/projects. It is also available on CD at the Nebraska National Forest Supervisor's Office at 125 N. Main St., Chadron, NE 69337, or by calling (308) 432-0300.

Individuals or organizations submitting substantive comments during the comment period (36 CFR 215.6) are eligible to appeal the decision pursuant to 26 CFR part 215 (Federal Register—June 4, 2003) or 26 CFR 251 subpart C (FR—January 23, 1989), but not both. Appeals, including attachments, must be filed with the Appeal Deciding Officer within 45 days following the date of publication of the legal notice in the official newspapers of record, Rapid City Journal, Rapid City, South Dakota and the Omaha World Herald, Omaha, Nebraska for Nebraska National Forest Supervisor decisions in South Dakota and Nebraska respectively. The legal notice is the exclusive means for calculating the time to file an appeal. Those wishing to file an appeal should not rely upon dates or timeframe information provided by any other source. It is the responsibility of individuals wishing to file an appeal to do so within the framework provided in the appropriate appeal regulations. These regulations may be found at the following Web site: http://www.fs.fed.us/emc/applit/appeals.htm.

Dated: August 18, 2005.
Donald J. Bright,
Forest Supervisor, Nebraska National Forest.

[FR Doc. 05-16977 Filed 8-25-05; 8:45 am]

BILLING CODE 3410-11-M